POSTAL SERVICE

Sunshine Act, Board of Governors; Meeting

Times and Dates: 8:30 a.m., Tuesday, June 6, 2006; and 9 a.m., Wednesday, June 7, 2006.

Place: Indianapolis, Indiana, at the Westin Hotel, 50 South Capitol Avenue.

Status: June 6—8:30 a.m. (Closed); June 7—9 .a.m. (Closed).

Matters to Be Considered:

Tuesday, June 6, at 8:30 a.m. (Closed)

1. Labor Negotiations Planning.

2. Rate Case Planning.

3. Strategic Planning.

4. Financial Update.

5. Personnel Matters and Compensation Issues.

Wednesday, June 7, at 9 a.m. (Closed—if needed.)

1. Continuation of Tuesday's agenda.

FOR FURTHER INFORMATION CONTACT: Wendy A. Hocking, Secretary of the Board, U.S. Postal Service, 475 L'Enfant Plaza, SW., Washington, DC 20260-1000. Telephone (202) 268-4800.

Wendy A. Hocking,
Secretary.

[FR Doc. 06-4993 Filed 5-25-06; 3:21pm]

BILLING CODE 7710-12-M